COMMITTEE FOR THE IMPLEMENTATION OF TEXTILE AGREEMENTS

Request for Public Comments on Commercial Availability Request under the African Growth and Opportunity Act (AGOA)

March 25, 2003.

AGENCY: The Committee for the Implementation of Textile Agreements (CITA).

ACTION: Request for public comments concerning a request for a determination that certain light- and medium-weight dyed warp pile cotton velvet, for use in apparel articles, cannot be supplied by the domestic industry in commercial quantities in a timely manner.

SUMMARY: On March 21, 2003, the Chairman of CITA received a petition from Crystal Apparel Limited of Hong Kong and Sinotex Mauritius Limited in Mauritius alleging that certain light- and medium-weight dyed warp pile cotton velvet for use in men's and boys'

jackets and pants and women's and girls' jackets, dresses, skirts, pants, and shorts, cannot be supplied by the domestic industry in commercial quantities in a timely manner. It requests that such apparel articles of such fabrics be eligible for preferential treatment under the AGOA. CITA hereby solicits public comments on this request, in particular with regard to whether these fabrics can be supplied by the domestic industry in commercial quantities in a timely manner. Comments must be submitted by April 14, 2003 to the Chairman, Committee for the Implementation of Textile Agreements, Room 3001, United States Department of Commerce, Washington, D.C. 20230.

EFFECITVE DATE: March 28, 2003

FOR FURTHER INFORMATION CONTACT: Anna Flaaten, Office of Textiles and Apparel, U.S. Department of Commerce, (202) 482-3400.

SUPPLEMENTARY INFORMATION:

Authority: Section 112(b)(5)(B) of the AGOA, Section 1 of Executive Order No. 13191 of January 17, 2001.

Background

The AGOA provides for quota- and duty-free treatment for qualifying textile and apparel products. Such treatment is generally limited to products manufactured from yarns or fabrics formed in the United States or a beneficiary country. The AGOA also provides for quota- and duty-free treatment for apparel articles that are both cut (or knit-to-shape) and sewn or otherwise assembled in one or more beneficiary sub-Saharan African countries from fabric or yarn that is not formed in the United States or a beneficiary sub-Saharan African country, if it has been determined that such fabric or yarns cannot be supplied by the domestic industry in commercial quantities in a timely manner. In Executive Order No. 13191, the President delegated to CITA the authority to determine whether yarns or fabrics cannot be supplied by the domestic industry in commercial quantities in a timely manner under the AGOA and directed CITA to establish procedures to ensure appropriate public participation in any such determination. On March 6, 2001, CITA published procedures in the Federal Register that it will follow in considering requests (66 FR 13502).

On March 21, 2003, the Chairman of CITA received a petition from Crystal Apparel Limited of Hong Kong and Sinotex Mauritius Limited in Mauritius alleging that certain light- and medium-weight dyed warp pile cotton velvet, classified in subheading 5801.25.00 of the Harmonized Tariff Schedule of the United States (HTSUS), with the following specifications, cannot be supplied by the domestic industry in commercial quantities in a timely manner and requesting quota- and duty-free treatment under the AGOA for certain jackets, dresses, skirts, pants and shorts, that are cut and sewn in one or more beneficiary sub-Saharan African countries from such fabrics.

1. Name: light-weight dyed warp pile velvet
HTS subheading: 5801.25.00
Fiber Composition: 100 percent combed cotton
Yarn: 230 g/m2 to 260 g/m2
Construction:
Woven Fabric - 96 x 98
Weft - 42/2 ply + 42/2 ply
Warp - 32 single yarn
Woven Fabric - 96 x 102
Weft - 42/2 ply + 60/2 ply
Warp - 32 single yarn
2. Name: medium-weight dyed warp pile velvet
HTS subheading: 5801.25.00
Fiber Composition: 97 percent cotton, 3 percent spandex
Yarn: 280 g/m2 to 330 g/m2
Construction:
Woven Fabric - 110 x 84
Weft - 42/2 ply + 50/2 ply
Warp - 30 single yarn + 40 denier spandex
Woven Fabric - 126 x 84
Weft - 42/2 ply + 50/2 ply
Warp - 30 single yarn + 40 denier spandex

CITA is soliciting public comments regarding this request, particularly with respect to whether such fabrics can be supplied by the domestic industry in commercial quantities in a timely manner. Also relevant is whether other products that are supplied by the domestic industry in commercial quantities in a timely manner are substitutable for the fabrics for the purposes of the intended use. Comments must be received no later than April 14, 2003. Interested persons are invited to submit six copies of such comments or information to the Chairman, Committee for the Implementation of Textile Agreements, Room 3100, U.S. Department of Commerce, 14th and Constitution Avenue, NW., Washington, DC 20230.

If a comment alleges that such fabrics can be supplied by the domestic industry in commercial quantities in a timely manner, CITA will closely review any supporting documentation, such as a signed statement by a manufacturer of the yarn or fabric stating that it produces the fabrics that are the subject of the request, including the quantities that can be supplied and the time necessary to fill an order, as well as any relevant information regarding past production.

CITA will protect any business confidential information that is marked business confidential from disclosure for the full extent permitted by law. CITA will make available to the public non-confidential versions of the request and non-confidential versions of any public comments received with respect to a request in room 3100 in the Herbert Hoover Building, 14th and Constitution Avenue, NW., Washington, DC 20230. Persons submitting comments on a request are encouraged to include a non-confidential version and a non-confidential summary.

James C. Leonard III,
Chairman, Committee for the Implementation of Textile Agreements.

[FR Doc.03-7621 Filed 3-26-03; 11:57 am]

BILLING CODE 3510-DR-S